DEPARTMENT OF THE INTERIOR

Bureau of Land Management

[LLCOS00000 L1120 PH]

Notice of Public Meeting, Southwest Colorado Resource Advisory Council Meeting

AGENCY: Bureau of Land Management.

ACTION: Notice of public meeting.

SUMMARY: In accordance with the Federal Land Policy and Management Act (FLPMA) and the Federal Advisory Committee Act of 1972 (FACA), the U.S. Department of the Interior, Bureau of Land Management (BLM) Southwest Colorado Resource Advisory Council (RAC) will meet in March 2010.

DATES: A Southwest Colorado RAC meeting will be held March 5, 2010.

ADDRESSES: The Southwest Colorado RAC meeting will be held March 5, 2010, at the Devil's Thumb Golf Course at 9900 Devil's Thumb Drive, Delta, CO 81416. The Southwest Colorado RAC meeting will begin at 9 a.m. and adjourn at approximately 4 p.m. A public comment period regarding matters on the agenda will be at 2:30 p.m.

FOR FURTHER INFORMATION CONTACT: Lori Armstrong, BLM Southwest District Manager, 2505 S. Townsend Avenue, Montrose, CO; telephone 970-240-5300; or Erin Curtis, Public Affairs Specialist, 2815 H Road, Grand Junction, CO, telephone 970-244-3097.

SUPPLEMENTARY INFORMATION: The Southwest Colorado RAC advises the Secretary of the Interior, through the Bureau of Land Management, on a variety of public land issues in Colorado.

Topics of discussion for all Southwest Colorado RAC meetings may include field manager and working group reports, recreation, fire management, land use planning, invasive species management, energy and minerals management, travel management, wilderness, land exchange proposals, cultural resource management, and other issues as appropriate.

These meetings are open to the public. The public may present written comments to the RACs. Each formal RAC meeting will also have time, as identified above, allocated for hearing public comments. Depending on the number of persons wishing to comment and time available, the time for individual oral comments may be limited.

Dated: January 22, 2010.
Lori Armstrong,
Southwest District Manager, Designated Federal Officer, Southwest Colorado RAC.

[FR Doc. 2010-1895 Filed 2-4-10; 8:45 am]

BILLING CODE P